DEPARTMENT OF COMMERCE

International Trade Administration

[A-351-825]

Stainless Steel Bar From Brazil: Final Results of Antidumping Duty Administrative Review; 2016-2017

AGENCY: Enforcement and Compliance, International Trade Administration, Department of Commerce.

SUMMARY: On March 1, 2018, the Department of Commerce (Commerce) published the preliminary results of the administrative review of the antidumping duty order on stainless steel bar (SSB) from Brazil. The period of review (POR) is February 1, 2016, through January 31, 2017. For the final results of this review, we continue to find that Villares Metals S.A. (Villares) has not made sales of subject merchandise at less than normal value during the POR.

DATES: Applicable May 22, 2018.

FOR FURTHER INFORMATION CONTACT: Dmitry Vladimirov, Office I, Enforcement and Compliance, International Trade Administration, U.S. Department of Commerce, 1401 Constitution Avenue NW, Washington, DC 20230; telephone: (202) 482-0665.

SUPPLEMENTARY INFORMATION:

Background

On March 1, 2018, Commerce published the Preliminary Results of the administrative review of the antidumping duty order on SSB from Brazil.¹ The administrative review covers one producer/exporter of the subject merchandise, Villares. We gave interested parties an opportunity to comment on the Preliminary Results. We received no comments. Hence, these final results are unchanged from the Preliminary Results. Commerce conducted this review in accordance with section 751(a)(1)(B) and (2) of the Tariff Act of 1930, as amended (the Act).

¹ See Stainless Steel Bar from Brazil: Preliminary Results of Antidumping Duty Administrative Review; 2016-2017, 83 FR 8839 (March 1, 2018) (Preliminary Results).

Scope of the Order

The merchandise subject to the order is SSB. The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The SSB subject to the order is currently classifiable under subheadings 7222.10.00, 7222.11.00, 7222.19.00, 7222.20.00, 7222.30.00 of the Harmonized Tariff Schedule of the United States (HTSUS). Although the HTSUS subheadings are provided for convenience and customs purposes, the written description of the scope of the order is dispositive.

Final Results of the Administrative Review

We determine that a weighted-average dumping margin of 0.00 percent exists for Villares for the period of February 1, 2016, through January 31, 2017.

Assessment

In accordance with section 751(a)(2)(C) of the Act, 19 CFR 351.212(b)(1) and the Final Modification,² Commerce will instruct U.S. Customs and Border Protection (CBP) to liquidate all appropriate entries for Villares without regard to antidumping duties.

² See Antidumping Proceedings: Calculation of the Weighted-Average Dumping Margin and Assessment Rate in Certain Antidumping Duty Proceedings; Final Modification, 77 FR 8101, 8102 (February 14, 2012) (Final Modification).

For entries of subject merchandise during the POR produced by Villares for which it did not know its merchandise was destined for the United States, we will instruct CBP to liquidate unreviewed entries at the all-others rate if there is no rate for the intermediate company involved in the transaction. We intend to issue instructions to CBP 15 days after publication of the final results of this review.

Cash Deposit Requirements

The following cash deposit requirements will be effective upon publication of the notice of final results of administrative review for all shipments of SSB from Brazil entered, or withdrawn from warehouse, for consumption on or after the date of publication as provided by section 751(a)(2)(C) of the Act: (1) The cash deposit rate for Villares will be 0.00 percent, the weighted-average dumping margin established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 19.43 percent, the all-others rate established in the LTFV Determination of Stainless Steel Bar from Brazil.³

³ See Notice of Final Determination of Sales at Less Than Fair Value: Stainless Steel Bar from Brazil, 59 FR 66914 (December 28, 1994) (LTFV Determination of Stainless Steel Bar from Brazil).

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a violation subject to sanction.

We are issuing and publishing these results of an administrative review in accordance with sections 751(a)(1) and 777(i) of the Act and 19 CFR 351.221(b)(5).

Dated: May 16, 2018.
Gary Taverman,
Deputy Assistant Secretary for Antidumping and Countervailing Duty Operations, performing the non-exclusive functions and duties of the Assistant Secretary for Enforcement and Compliance.

[FR Doc. 2018-10878 Filed 5-21-18; 8:45 am]

BILLING CODE 3510-DS-P